DEPARTMENT OF COMMERCE

National Oceanic and Atmospheric Administration

[RTID 0648-XA178]

Caribbean Fishery Management Council; Public Meeting; Correction

AGENCY: National Marine Fisheries Service (NMFS), National Oceanic and Atmospheric Administration (NOAA), Commerce.

ACTION: Notice of a correction to a public meeting.

SUMMARY: The Caribbean Fishery Management Council's (Council) Outreach and Education Advisory Panel (OEAP) will hold a two-day public virtual meeting to address the items contained in the tentative agenda included in the SUPPLEMENTARY INFORMATION.

DATES: The OEAP public virtual meeting will be held on June 3, 2020, from 12 p.m. to 2 p.m., and June 4, 2020, from 12 p.m. to 2 p.m. All meetings will be at Eastern Day Time.

ADDRESSES: You may join the OEAP public virtual meeting (via GoToMeeting) from a computer, tablet or smartphone by entering the following address:

Wednesday, June 3, 2020, 12 p.m.-2 p.m.

Please join my meeting from your computer, tablet or smartphone. https://global.gotomeeting.com/join/598123173. You can also dial in using your phone. United States: +1 (571) 317-3122, Access Code: 598-123-173. You may download the GoToMeeting app to be ready when the meeting starts: https://global.gotomeeting.com/install/598123173.

Thursday, June 4, 2020 12 p.m.-2 p.m.

Please join my meeting from your computer, tablet or smartphone. https://global.gotomeeting.com/join/292561749. You can also dial in using your phone. United States: +1 (646) 749-3122, Access Code: 292-561-749. You may download the GoToMeeting app to be ready when the meeting starts: https://global.gotomeeting.com/install/292561749.

FOR FURTHER INFORMATION CONTACT: Miguel Rolón, Executive Director, Caribbean Fishery Management Council, 270 Muñoz Rivera Avenue, Suite 401, San Juan, Puerto Rico 00918-1903; telephone: (787) 398-3717.

SUPPLEMENTARY INFORMATION: The original notice published in the Federal Register on May 15, 2020 (85 FR 29406). This notice makes changes to the meeting links.

The following items included in the tentative agenda will be discussed:

June 3, 2020, 12 p.m.-1 p.m.

—Call to Order

—Adoption of Agenda

—OEAP Chairperson's Report

—CFMC Arrangements for Virtual Meetings

—Fishers' Initiatives to Cope With Pandemic Scenario

—USVI Activities

—Fishery Ecosystem Based Management Plan (FEBMP)

—EBFMTAP

—Outreach & Education Initiatives for Fishers and Consumers

June 3, 2020, 1:10 p.m.-2 p.m.

—Responsible Seafood Consumption Campaign

June 4, 2020, 12 p.m.-1 p.m.

—Update on Five-Year Strategic Plan—Michelle Duval

—Island-Based Fisheries Management Plans (IBFMPs)

—2021 Calendar

June 4, 2020, 1:10 p.m.-2 p.m.

—CFMC Facebook and Instagram Communications with Stakeholders

—PEPCO

—Other Business

The order of business may be adjusted as necessary to accommodate the completion of agenda items. The meeting will begin on June 3, 2020, at 12 p.m. EDT, and will end on June 4, 2020, at 2 p.m. EDT. Other than the start time, interested parties should be aware that discussions may start earlier or later than indicated, at the discretion of the Chair. In addition, the meeting may be completed prior to the date established in this notice.

Special Accommodations

For any additional information on this public virtual meeting, please contact Diana Martino, Caribbean Fishery Management Council, 270 Muñoz Rivera Avenue, Suite 401, San Juan, Puerto Rico 00918-1903, telephone: (787) 226-8849.

Authority: 16 U.S.C. 1801 et seq.

Dated: May 15, 2020.
Tracey L. Thompson,
Acting Deputy Director, Office of Sustainable Fisheries, National Marine Fisheries Service.

[FR Doc. 2020-10850 Filed 5-19-20; 8:45 am]

BILLING CODE 3510-22-P